DEPARTMENT OF THE TREASURY

Submission for OMB Review; Comment Request

January 10, 2010.

The Department of the Treasury will submit the following public information collection requirements to OMB for review and clearance under the Paperwork Reduction Act of 1995, Public Law 104-13 on or after the date of publication of this notice. A copy of the submission may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before February 14, 2011 to be assured of consideration.

Internal Revenue Service (IRS)

OMB Number: 1545-1292.

Type of Review: Extension without change to a currently approved collection.

Title: PS-97-91 and PS-101-90 (T.D. 8448) Enhanced Oil Recovery Credit.

Abstract: This regulation provides guidance concerning the costs subject to the enhanced oil recovery credit, the circumstances under which the credit is available, and procedures for certifying to the Internal Revenue Service that a project meets the requirements of section 43(c) of the Internal Revenue Code.

Respondents: Private sector: Businesses or other for-profits.

Estimated Total Burden Hours: 1,460 hours.

OMB Number: 1545-1324.

Type of Review: Extension without change of a currently approved collection.

Title: CO-88-90 (TD 8530—Final) Limitation on Net Operating Loss Carryforwards and Certain Built-in Losses Following Ownership Change; Rule for Value of a Loss Corporation Under the Jurisdiction of a Court in a Title II Case.

Abstract: This information serves as evidence of an election to apply section 382(1)(6) in lieu of section 382(1)(5) and an election to apply the provisions of the regulations retroactively. It is required by the Internal Revenue Service to assure that the proper amount of carryover attributes are used by a loss corporation following specified types of ownership changes.

Respondents: Private sector: Businesses or other for-profits.

Estimated Total Burden Hours: 813 hours.

Bureau Clearance Officer: Allan Hopkins, Internal Revenue Service, 1111 Constitution Avenue, NW., Washington, DC 20224; (202) 622-6665.

OMB Reviewer: Shagufta Ahmed, Office of Management and Budget, New Executive Office Building, Room 10235, Washington, DC 20503; (202) 395-7873.

Dawn D. Wolfgang,
Treasury PRA Clearance Officer.

[FR Doc. 2011-813 Filed 1-13-11; 8:45 am]

BILLING CODE 4830-01-P